DEPARTMENT OF TRANSPORTATION

Federal Transit Administration

FY 2011 Discretionary Livability Funding Opportunity; Section 5309 Bus and Bus Facilities Livability Initiative Program Grants and Section 5339 Alternatives Analysis Program

AGENCY: Federal Transit Administration (FTA), DOT.

ACTION: FTA Livability Initiative Program Funds: Announcement of Project Selections.

SUMMARY: The U.S. Department of Transportation's (DOT) Federal Transit Administration (FTA) announces the selection of projects funded under two discretionary programs: Bus and Bus Facilities and Alternatives Analysis, in support of DOT's Livability Initiative, which was announced in the Discretionary Livability Funding Opportunity notice of funding availability on June 27, 2011. The Bus Livability program makes funds available to public transit providers to finance capital projects to replace, rehabilitate, and purchase buses and related equipment and to construct bus-related facilities, including programs of bus and bus-related projects for assistance to subrecipients that are public agencies, private companies engaged in public transportation, or private non-profit organizations. The Alternatives Analysis program makes funds available to States, authorities of States, metropolitan planning organizations, and local governmental authorities to develop alternatives analyses. The Alternatives Analysis Program assists potential sponsors of major transit capital investments (“New Starts” and “Small Starts” projects) in the evaluation of all reasonable modal and multimodal alternatives and general alignment options to address transportation needs in a defined travel corridor. Through these funding awards, FTA will support a limited number of alternatives analyses, or technical work conducted as part of proposed or on-going alternatives analyses, that seek to advance major transit investments that foster the six livability principles of the DOT-HUD-EPA Partnership for Sustainable Communities.

FOR FURTHER INFORMATION CONTACT: Successful and unsuccessful applicants should contact the appropriate FTA Regional office (Appendix) for specific information regarding applying for the funds or proposal specific questions. For general program information on the Bus and Bus Facilities Program, contact Samuel Snead, Office of Program Management, at (202) 366-2053, email: samuel.snead@dot.gov, or Kimberly Sledge, Office of Program Management, at (202) 366-2053, email: kimberly.sledge@dot.gov. For questions about the Alternatives Analysis program, contact Kenneth Cervenka, Office of Planning and Environment, at (202) 493-0512, email: kenneth.cervenka@dot.gov. A TDD is available at 1 (800) 877-8339 (TDD/FIRS).

SUPPLEMENTARY INFORMATION: Bus Livability Program: A total of at least $150 million was available for FTA's Bus Livability Program. A total of 241 applicants requested $1.2 billion, indicating significant demand for funds. Project proposals were evaluated based on the criteria detailed in the June 27, 2011 Notice of Funding Availability. The projects selected and shown in Table 1 will provide mobility choices, improve economic competitiveness, support existing communities, create partnerships and enhance the value of communities and neighborhoods. Funds must be used for the eligible purposes defined under 49 U.S.C. 5309(b)(3) and consistent with the competitive proposal. In selecting projects for funding using Bus Program funds, FTA ensured that at least 5.5 percent of the FY 2011 Section 5309 funds, or $53.5 million, is being allocated to projects that are not in urbanized areas. Additionally, at least $35 million is being allocated for intermodal terminal projects.

Alternatives Analysis: A total of $25 million was available for FTA's Alternatives Analysis Program. A total of $60.8 million was requested for 71 projects, indicating significant demand for funds. Project proposals were evaluated based on the criteria detailed in the June 27, 2011 Notice of Funding Availability. The proposals selected and shown in Table 2 will advance proposed transit investments that would provide more transportation choices, improve economic competitiveness, support existing communities, create partnerships and enhance the value of communities and neighborhoods. Funds must be used for the eligible purposes defined under 49 U.S.C. 5309(a)(1) and consistent with the competitive proposal.

Project Implementation: Grantees selected for competitive discretionary funding should work with their FTA regional office to finalize the grant application FTA's Transportation Electronic Award Management system (TEAM) for the projects identified in the attached table and so that funds can be obligated expeditiously. In cases where the allocation amount is less than the proposer's requested amount, grantees should work with the regional office to reduce scope or scale the project such that a complete phase or project is accomplished. A discretionary project identification number has been assigned to each project for tracking purposes and must be used in the TEAM application. Selected projects have pre-award authority as of October 17, 2011. Additionally, for the Bus Livability projects, although several projects contained related housing or livable communities' initiatives, FTA funds may only be used for eligible purposes defined under 49 U.S.C. 5309(b)(3) and described in FTAC.9030.1C. For any Bus Livability projects that will be implemented as a joint-development project, please also refer to the agency's joint-development guidance found in 72 FR 5788 (Feb. 7, 2007) for more information. Post-award reporting requirements include submission of the Financial Federal Report and Milestone reports in TEAM as appropriate (see FTA.C.5010.1D).

The grantee must comply with all applicable Federal statutes, regulations, executive orders, FTA circulars, and other Federal administrative requirements in carrying out the project supported by the FTA grant. FTA emphasizes that grantees must follow all third-party procurement guidance, as described in FTA.C.4220.1F. Funds allocated in this announcement must be obligated in a grant by September 30, 2014.

Issued in Washington, DC, this 2nd day of November 2011.
Peter Rogoff,
Administrator.

Appendix

FTA Regional and Metropolitan Offices
Mary E. Mello, Deputy Regional Administrator, Region 1-Boston, Kendall Square, 55 Broadway, Suite 920, Cambridge, MA 02142-1093, Tel. (617) 494-2055 | Robert C. Patrick, Regional Administrator, Region 6-Ft. Worth, 819 Taylor Street, Room 8A36, Ft. Worth, TX 76102, Tel. (817) 978-0550
States served: Connecticut, Maine, Massachusetts, New Hampshire, Rhode Island, and Vermont. | States served: Arkansas, Louisiana, Oklahoma, New Mexico and Texas.
Anthony Carr, Acting Regional Administrator, Region 2-New York, One Bowling Green, Room 429, New York, NY 10004-1415, Tel. (212) 668-2170 | Mokhtee Ahmad, Regional Administrator, Region 7-Kansas City, MO, 901 Locust Street, Room 404, Kansas City, MO 64106, Tel.(816) 329-3920
States served: New Jersey, New York. | States served: Iowa, Kansas, Missouri, and Nebraska.
New York Metropolitan Office, Region 2-New York, One Bowling Green, Room 428, New York, NY 10004-1415, Tel. (212) 668-2202
Brigid Hynes-Cherin, Acting Regional Administrator, Region 3-Philadelphia, 1760 Market Street, Suite 500, Philadelphia, PA 19103-4124, Tel. (215)-656-7100 | Terry Rosapep, Regional Administrator, Region 8-Denver, 12300 West Dakota Ave., Suite 310, Lakewood, CO 80228-2583, Tel. (720) 963-3300
States served: Delaware, Maryland, Pennsylvania, Virginia, West Virginia, and District of Columbia | States served: Colorado, Montana, North Dakota, South Dakota, Utah, and Wyoming.
Washington D.C. Metropolitan Office, 1990 K St NW Suite 510, Washington, DC 20006, Tel: (202) 219-3562
Yvette Taylor, Regional Administrator, Region 4-Atlanta, 230 Peachtreet Street NW., Suite 800, Atlanta, GA 30303, Tel. (404) 865-5600 | Leslie T. Rogers, Regional Administrator, Region 9-San Francisco, 201 Mission Street, Room 1650, San Francisco, CA 94105-1926, Tel. (415) 744-3133
States served: Alabama, Florida, Georgia, Kentucky, Mississippi, North Carolina, Puerto Rico, South Carolina, Tennessee, and Virgin Islands | States served: American Samoa, Arizona, California, Guam, Hawaii, Nevada, and the Northern Mariana Islands.
| Los Angeles Metropolitan Office, Region 9-Los Angeles, 888 S. Figueroa Street, Suite 1850, Los Angeles, CA 90017-1850, Tel. (213) 202-3952
Marisol Simon, Regional Administrator, Region 5-Chicago, 200 West Adams Street, Suite 320, Chicago, IL 60606, Tel. (312) 353-2789 | Rick Krochalis, Regional Administrator, Region 10-Seattle, Jackson Federal Building, 915 Second Avenue, Suite 3142, Seattle, WA 98174-1002, Tel. (206) 220-7954
States served: Illinois, Indiana, Michigan, Minnesota, Ohio, and Wisconsin | States served: Alaska, Idaho, Oregon, and Washington.
Chicago Metropolitan Office, Region 5-Chicago, 200 West Adams Street, Suite 320, Chicago, IL 60606, Tel. (312) 353-2789

BILLING CODE 4910-57-P

[FR Doc. 2011-28779 Filed 11-4-11; 8:45 am]

BILLING CODE 4910-57-C